FEDERAL EMERGENCY MANAGEMENT AGENCY

44 CFR Part 65

[Docket No. FEMA-D-7505]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Associate Director reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Mitigation Directorate, Federal Emergency Management Agency, 500 C Street SW., Washington, DC 20472, (202) 646-3461, or (e-mail) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to Section 201 of the Flood Disaster Protection Act of 1973, 42 U.S.C. 4105, and are in accordance with the National Flood Insurance Act of 1968, 42 U.S.C. 4001 et seq., and with 44 CFR Part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act

This rule is categorically excluded from the requirements of 44 CFR Part 10, Environmental Consideration. No environmental impact assessment has been prepared.

Regulatory Flexibility Act

The Associate Director, Mitigation Directorate, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification

This interim rule is not a significant regulatory action under the criteria of Section 3(f) of Executive Order 12866 of September 30, 1993, Regulatory Planning and Review, 58 FR 51735.

Executive Order 12612, Federalism

This rule involves no policies that have federalism implications under Executive Order 12612, Federalism, dated October 26, 1987.

Executive Order 12778, Civil Justice Reform

This rule meets the applicable standards of Section 2(b)(2) of Executive Order 12778.

List of Subjects in 44 CFR Part 65

Flood insurance, Floodplains, Reporting and recordkeeping requirements.

Accordingly, 44 CFR Part 65 is amended as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community number
Connecticut:
Middlesex | Town of Cromwell | October 3, 2000, October 10, 2000, The Hartford Courant | Mr. Stanley Terry, First Selectman for the Town of Cromwell, 41 West Street, Cromwell, Connecticut 06416 | January 8, 2001 | 090123
Florida:
Brevard | Unincorporated Areas | November 10, 2000, November 17, 2000, Florida Today | Mr. Tom N. Jenkins, Brevard County Manager, Government Center, Building C, 2725 Judge Fran Jamieson Highway, Viera, Florida 32940 | February 16, 2001 | 125092 E
Brevard | City of Rockledge | November 10, 2000, November 17, 2000, Florida Today | The Honorable Larry L. Schultz, Mayor of the City of Rockledge, P.O. Box 560488, Rockledge, Florida 32956-0488 | February 16, 2001 | 120027 E
Illinois:
Will | City of Joliet | November 10, 2000, November 17, 2000, The Herald-News | The Honorable Arthur Schultz, Mayor of the City of Joliet, Municipal Building, 150 West Jefferson Street, Joliet, Illinois | November 3, 2000 | 170702 E
Will | City of Joliet | November 14, 2000, November 21, 2000, The Herald-News | The Honorable Arthur Schultz, Mayor of the City of Joliet, Municipal Building, 150 West Jefferson Street, Joliet, Illinois | November 6, 2000 | 170702 E
Will | Village of Plainfield | October 25, 2000, November 1, 2000, The Enterprise | Mr. Richard Rock, Village of Plainfield President, 530 West Lockport Street, Suite 206, Plainfield, Illinois 60544 | October 17, 2000 | 170771 E
Will | Unincorporated Areas | November 10, 2000, November 17, 2000, The Herald-News | Mr. Charles R. Adelman, Will County Executive, 302 North Chicago Street, Joliet, Illinois 60432 | November 3, 2000 | 170695 E
Kentucky:
Pike | City of Pikeville | November 15, 2000, November 22, 2000, The Appalachian News- Express | The Honorable Frank Morris, Mayor of the City of Pikeville, 118 College Street, Pikeville, Kentucky 41501 | February 21, 2001 | 210193 F
Michigan:
Macomb | Township of Chesterfield | September 6, 2000, September 13, 2000, Bay Voice | Mr. Elbert J. Tharp, Chesterfield Township Supervisor, 47275 Sugar Bush Road, Chesterfield, Michigan 48047 | August 25, 2000 | 260120 B
Macomb | Township of Macomb | September 8, 2000, September 15, 2000, The Macomb Daily | Mr. John D. Brennan, Macomb Township Supervisor, 19925 Twenty-Three Mile Road, Macomb, Michigan 48042 | August 30, 2000 | 260445
Macomb | City of Sterling Heights | September 14, 2000, September 21, 2000, The Macomb Daily | The Honorable Richard J. Notte, Mayor of the City of Sterling Heights, 40555 Utica Road, P.O. Box 8009, Sterling Heights, Michigan 48311-8009 | September 6, 2000 | 260128 E
North Carolina:
Avery | Town of Banner Elk | September 28, 2000, October 5, 2000, The Mountain Citizen | The Honorable Deka Tate, Mayor of the Town of Banner Elk, Town Hall, P.O. Box 156, Banner Elk, North Carolina 28604 | December 30, 1999 | 370011 B
Guilford | City of Greensboro | November 16, 2000, November 23, 2000, News & Record | The Honorable Keith Holliday, Mayor of the City of Greensboro, P.O. Box 3136, Greensboro, North Carolina 27402-3136 | February 22, 2001 | 375351 C
Ohio:
Auglaize | Village of New Knoxville | October 4, 2000, October 11, 2000, The Evening Leader | Mr. Michael Gieb, Village Administrator, P.O. Box 246, New Knoxville, Ohio 45871 | January 10, 2001 | 390848 C
Lorain | City of Avon | November 14, 2000, November 21, 2000, The Morning Journal | The Honorable James A. Smith, Mayor of the City of Avon, City Hall, 36080 Chester Road, Avon, Ohio 44011 | November 8, 2000 | 390348 C
Pennsylvania:
Allegheny | Municipality of Monroeville | August 29, 2000, Tribune-Review | Mr. Marshall W. Bond, Municipality of Monroeville Manager, 2700 Monroeville Boulevard, Monroeville, Pennsylvania 15146-2388 | September 22, 2000 | 420054 E
Allegheny | Municipality of Penn Hills | August 29, 2000, Tribune-Review | Mr. John C. Brennan, Municipality of Penn Hills Manager, 12245 Frankstown Road, Pittsburgh, Pennsylvania 15235 | September 22, 2000 | 421092 E
Puerto Rico:
Commonwealth |  | October 5, 2000, October 12, 2000, El Nuevo Día | Mr. Jose R. Cabellero Mercado, President de la Junta de, Planificacíon de Puerto Rico, El Piso 13, Oficina 1304, Edificio Norte, Centro Gubernamental Minillas, Santurce, Puerto Rico 00940 | January 12, 2001 | 720000
Commonwealth |  | October 10, 2000, October 17, 2000, El Nuevo Día | Mr. Jose R. Cabellero Mercado, President de la Junta de, Planificacíon de Puerto Rico, El Piso 13, Oficina 1304, Edificio Norte, Centro Gubernamental Minillas, Santurce, Puerto Rico 00940 | October 2, 2000 | 720000
South Carolina:
Richland | Town of Arcadia Lakes | April 24, 2000, May 1, 2000, The State | The Honorable Joan B. Brady, Mayor of the Town of Arcadia Lakes, 6626A Arcadia Woods Road, Columbia, South Carolina 29206 | July 30, 2000 | 450171 G
Virginia:
Arlington | Unincorporated Areas | November 10, 2000, November 17, 2000, The Journal Newspaper | Mr. William Donahue, Arlington County Manager, 2100 Clarendon Boulevard, Room 302, Arlington, Virginia 22201 | May 3, 1982 | 515520
Independent City | City of Falls Church | November 10, 2000, November 17, 2000, The Journal Newspaper | The Honorable Daniel Gardner, Mayor of the City of Falls Church, 300 Park Avenue, Falls Church, Virginia 22046 | February 3, 1982 | 510054
Independent City | City of Winchester | August 30, 2000, September 5, 2000, Winchester Star | Mr. Edwin C. Daley, City of Winchester Manager, Rouss City Hall, 15 North Cameron Street, Winchester, Virginia 22601 | November 20, 2000 | 510173 B
Wisconsin:
Washington | Village of Jackson | July 18, 2000, July 25, 2000, The Daily News | Mr. Delmore Beaver, Village of Jackson Administrator, P.O. Box 147, Jackson Wisconsin 53037 | July 13, 2000 | 550530 B
La Crosse | City of La Crosse | November 14, 2000, November 21, 2000, The La Crosse Tribune | The Honorable John Medinger, Mayor of the city of La Crosse, City Hall, 400 La Crosse Street, La Crosse, Wisconsin 54601 | February 20, 2001 | 555562 B
La Crosse | Unincorporated Areas | November 14, 2000, November 21, 2000, The La Crosse Tribune | Mr. James Ehrsam, Chairman, La Crosse County Board, 400 North Fourth Street, Room 101, La Crosse, Wisconsin 54601-3200 | February 20, 2001 | 550217 A

(Catalog of Federal Domestic Assistance No. 83.100, “Flood Insurance”)
Dated: November 17, 2000.
Michael J. Armstrong,
Associate Director for Mitigation.

[FR Doc. 00-30560 Filed 11-29-00; 8:45 am]

BILLING CODE 6718-04-P